DEPARTMENT OF THE INTERIOR

Bureau of Land Management

[LLCO921000-L13200000-EL0000, COC-74447]

Notice of Invitation To Participate; Exploration for Coal in Colorado License Application COC-74447

AGENCY: Bureau of Land Management, Interior.

ACTION: Notice.

SUMMARY: All interested parties are hereby invited to participate with Williams Fork Land Company on a pro rata cost-sharing basis, in a program for the exploration of coal deposits owned by the United States of America in lands located in Moffat and Routt Counties, Colorado.

DATES: Any party electing to participate in this exploration program must send written notice to the Williams Fork Land Company and the Bureau of Land Management (BLM) as provided in the ADDRESSES section below by November 29, 2010 or 10 calendar days after the last publication of this notice in the Craig Daily Press and the Steamboat Pilot newspapers, whichever is later. This notice will be published once a week for 2 consecutive weeks in the Craig Daily Press, Craig, Colorado, and the Steamboat Pilot, Steamboat Springs, Colorado.

ADDRESSES: The exploration plan, as submitted by the Williams Fork Land Company, is available for review in the BLM, Colorado State Office, 2850 Youngfield Street, Lakewood, Colorado 80215, and the BLM, Little Snake Field Office, 455 Emerson Street, Craig, Colorado 81625, during normal business hours (9 a.m. to 4 p.m.), Monday through Friday. Any party electing to participate in this exploration program shall notify the BLM State Director, in writing, at the BLM Colorado State Office, 2850 Youngfield Street, Lakewood, Colorado 80215 and the Williams Fork Land Company, Attn: James M. Mattern, P.O. Box 187, Craig, Colorado 81626. The written notice must include a justification for participation and any recommended changes in the exploration plan with specific reasons for such changes.

FOR FURTHER INFORMATION CONTACT: Kurt M. Barton at (303) 239-3714, Kurt_Barton@blm.gov. or Jennifer Maiolo at (970) 826-5077, Jennifer_Maiolo @blm.gov.

SUPPLEMENTARY INFORMATION: The authority for the notice is Section 2(b) of the Mineral Leasing Act of 1920, as amended by Section 4 of the Federal Coal Leasing Amendments Act of 1976 and the regulations adopted as 43 CFR part 3410. The purpose of the exploration program is to gain additional geologic knowledge of the coal underlying the exploration area for the purpose of assessing the reserves contained in a potential lease. The Federal coal resources are located in Moffat and Routt County, Colorado.

Sixth Principal Meridian

T. 6 N., R. 89 W.,

Sec. 31, lots 5, 6, and 11;

Sec. 32, lot 4.

T. 6 N., R. 90 W.,

Sec. 26, lots 4, 5, and 6, and lots 11 to 14, inclusive;

Sec. 27, lots 1 and 2, and lots 5 to 16, inclusive;

Sec. 28, lot 2, lots 7 to 11, inclusive, and lots 14, 15, and 16;

Sec. 33, lots 1 to 8, inclusive;

Sec. 34, lots 1 to 16, inclusive;

Sec. 35, lots 1 to 16, inclusive.

T. 5 N, R. 89 W.,

Sec. 5, lots 5 to 19, inclusive, and Tr 43;

Sec. 6, lots 1, 2, 4, 6, and 7, S½NE¼, SE¼, and E½SW¼;

Sec. 7, lots 1, 2, and 3, E½NW¼, NE¼, N½SE¼, and NE¼SW¼;

Sec. 8, lots 1 to 7, inclusive, lots 10 to 13, inclusive, and E½NE¼.

T. 5 N., R. 90 W.,

Sec. 1, lots 5 to 20, inclusive;

Sec. 2, lots 5 to 20, inclusive;

Sec. 3, lots 5 to 18, inclusive;

Sec. 4, lots 5 to 16, inclusive, and lots 18, 19, and 20;

Sec. 10, lot 4;

Sec. 11, lots 1 to 8, inclusive;

Sec. 12, lots 1 to 12, inclusive.

These lands contain 8,690 acres, more or less.

The proposed exploration program will be conducted pursuant to an exploration plan to be approved by the BLM. The plan may be modified to accommodate the legitimate exploration needs of persons seeking to participate.

The foregoing is published in the Federal Register pursuant to 43 CFR 3410.2-1(c)(1).

Helen M. Hankins,
State Director.

[FR Doc. 2010-27393 Filed 10-28-10; 8:45 am]

BILLING CODE 4310-JB-P